DEPARTMENT OF DEFENSE

Office of the Secretary

Renewal of Department of Defense Federal Advisory Committees

AGENCY: DoD.

ACTION: Renewal of Federal Advisory Committee.

SUMMARY: Under the provisions of section 10 U.S.C. 2113a and the Federal Advisory Committee Act of 1972, (5 U.S.C. Appendix), the Government in the Sunshine Act of 1976 (5 U.S.C. 552b), and 41 CFR 102-3.50(a), the Department of Defense gives notice that it is renewing the charter for the Board of Regents of the Uniformed Services University of the Health Sciences (hereafter referred to as the Board).

The Board is a non-discretionary federal advisory committee that shall assist the Secretary of Defense in an advisory capacity in carrying out his responsibility to conduct the business of the Uniformed Services University of the Health Sciences.

The Board shall provide advice and recommendations on academic and administrative matters critical to the full accreditation and successful operation of the University.

The Board shall report to the Secretary of Defense through the Under Secretary of Defense for Personnel and Readiness.

The Under Secretary of Defense for Personnel and Readiness may act upon the Board's advice and recommendations.

Pursuant to 10 U.S.C. 2113a(b), the Board is composed of no more than fifteen members that shall include:

a. Nine persons outstanding in the field of health care, higher education administration, or public policy shall be appointed from civilian life by the Secretary of Defense;

b. The Secretary of Defense, or his designee, who shall be an ex officio member;

c. The surgeons general of the Uniformed Services, who shall be ex officio members;

d. The President of the University, who shall be a non-voting ex officio member.

The terms of office for each member of the Board (other than ex officio members) shall be six years except that:

a. Any member appointed to fill a vacancy occurring before the expiration of the term for which his predecessor was appointed shall be appointed for the remainder of such term; and

b. Any member whose term of office has expired shall continue to serve until his successor is appointed.

One of the appointed members of the Board shall be designated as Chairman by the Secretary of Defense and shall be presiding officer of the Board.

Board members that are not ex officio members shall be appointed by the Secretary of Defense. Those members, who are not full-time or permanent part-time federal officers or employees, shall be appointed as experts and consultants under the authority of 5 U.S.C. 3109, and serve as a special government employee. Pursuant to 10 U.S.C. 2113a(c) and (e), these special government employees shall serve a term of service of six years and shall be entitled to receive compensation at a rate fixed by the Secretary of Defense, in addition to travel expenses and per diem while serving away from their place of residence.

With DoD approval, the Board is authorized to establish subcommittees, as necessary and consistent with its mission and these subcommittees shall operate under the provisions of the Federal Advisory Committee Act of 1972, the Government in the Sunshine Act of 1976 (5 U.S.C. 552b), and other appropriate federal statutes and regulations.

Such subcommittees shall not work independently of the chartered Board, and shall report all their recommendations and advice to the Board for full deliberation and discussion. Subcommittees have no authority to make decisions on behalf of the chartered Board, nor can they report directly to the Department of Defense or any Federal officers or employees who are not Board members.

Subcommittee members, who are not Board members, shall be appointed in the same manner as the Board members. Such individuals, if not full-time or part-time government employees, shall be appointed to serve as experts and consultants under the authority of 5 U.S.C. 3019, and serve as special government employees, whose appointments must be renewed by the Secretary of Defense on an annual basis.

SUPPLEMENTARY INFORMATION: The Board shall meet at the call of the Board's Designated Federal Officer, in consultation with the Chairman and the president of the University. The estimated number of Board meetings is four per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Board of Regents of the Uniformed Services University of the Health Science's membership about the Board's mission and functions. Written statements may be submitted at any time or in response to the stated agenda of planned meeting of Board of Regents of the Uniformed Services University of the Health Science.

All written statements shall be submitted to the Designated Federal Officer for the Board of Regents of the Uniformed Services University of the Health Science, and this individual will ensure that the written statements are provided to the membership for their consideration. Contact information for the Board of Regents of the Uniformed Services University of the Health Science Designated Federal Officer can be obtained from the GSA's FACA Database— https://www.fido.gov/facadatabase/public.asp.

The Designated Federal Officer, pursuant to 41 CFR 102-3.150, will announce planned meetings of the Board of Regents of the Uniformed Services University of the Health Science. The Designated Federal Officer, at that time, may provide additional guidance on the submission of written statements that are in response to the stated agenda for the planned meeting in question.

FOR FURTHER INFORMATION CONTACT: Contact Jim Freeman, Deputy Advisory Committee Management Officer for the Department of Defense, 703-601-6128.

Dated: March 29, 2011.
Morgan F. Park,
Alternate OSD Federal Register Liaison Officer, Department of Defense.

[FR Doc. 2011-7698 Filed 3-31-11; 8:45 am]

BILLING CODE 5001-06-P